SECURITIES AND EXCHANGE COMMISSION

[File No. 500-1]

In the Matter of Advanced Precision Technology, Inc. (n/k/a Exact Identification Corp.), Alta Gold Co., Decisionlink, Inc., Dover Petroleum Corp., Enviro Energy Corp., Languageware.net Co. Ltd., Playstar Wyoming Holding Corp. (n/k/a Playstar Corp.), Uncle B's Bakery, Inc. (n/k/a Ise Blu Equity Corp.), and Wavo Corp.; Order of Suspension of Trading

April 21, 2008.

It appears to the Securities and Exchange Commission that there is a lack of current and accurate information concerning the securities of Advanced Precision Technology, Inc. (n/k/a Exact Identification Corp.) because it has not filed any periodic reports since the period ended March 31, 2001.

It appears to the Securities and Exchange Commission that there is a lack of current and accurate information concerning the securities of Alta Gold Co. because it has not filed any periodic reports since the period ended September 30, 1999.

It appears to the Securities and Exchange Commission that there is a lack of current and accurate information concerning the securities of Decisionlink, Inc. because it has not filed any periodic reports since the period ended September 30, 2001.

It appears to the Securities and Exchange Commission that there is a lack of current and accurate information concerning the securities of Dover Petroleum Corp. because it has not filed any periodic reports since the period ended March 31, 2004.

It appears to the Securities and Exchange Commission that there is a lack of current and accurate information concerning the securities of Enviro Energy Corp. because it has not filed any periodic reports since the period ended March 31, 2004.

It appears to the Securities and Exchange Commission that there is a lack of current and accurate information concerning the securities of Languageware.net Co. Ltd. because it has not filed any periodic reports since the period ended September 30, 2000.

It appears to the Securities and Exchange Commission that there is a lack of current and accurate information concerning the securities of Playstar Wyoming Holding Corp. (n/k/a Playstar Corp.) because it has not filed any periodic reports since the period ended June 30, 2002.

It appears to the Securities and Exchange Commission that there is a lack of current and accurate information concerning the securities of Uncle B's Bakery, Inc. (n/k/a Ise Blu Equity Corp.) because it has not filed any periodic reports since the period ended April 30, 1998.

It appears to the Securities and Exchange Commission that there is a lack of current and accurate information concerning the securities of Wavo Corp. because it has not filed any periodic reports since the period ended September 30, 2000.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on April 21, 2008, through 11:59 p.m. EDT on May 2, 2008.

By the Commission.
J. Lynn Taylor,
Assistant Secretary.

[FR Doc. 08-1178 Filed 4-21-08; 3:39 pm]

BILLING CODE 8010-01-P